DEPARTMENT OF TRANSPORTATION

Pipeline and Hazardous Materials Safety Administration

[Docket No. PHMSA-2011-0162; Notice No. 11-7]

Safety Notice: Transportation of DOT Special Permit Packages in Commerce

AGENCY: Pipeline and Hazardous Materials Safety Administration (PHMSA), DOT.

ACTION: Notice.

SUMMARY: In this safety notice, PHMSA is alerting the regulated community to the importance of adhering to Federal requirements when offering and transporting hazardous materials in DOT Special Permit (SP) packages. PHMSA is concerned that many persons who offer or transport SP packages fail to recognize the additional requirements applicable to filling, offering, and moving SP packages. By issuing this safety notice, PHMSA is attempting to raise awareness within the hazardous materials community of the inherent characteristics of DOT SPs and underscore the possible consequences of failing to recognize an SP package and react accordingly.

FOR FURTHER INFORMATION CONTACT: For questions regarding specifics on the cryogenic gas incident, please contact: Mr. John Heneghan, Director, Southern Region Office, Office of Hazardous Materials Safety, (404) 832-1135. For general questions regarding Special Permits, please contact: Mr. Ryan Paquet, Director, Approvals and Permits Division, Office of Hazardous Materials Safety, (202) 366-4512.

SUPPLEMENTARY INFORMATION:

I. Background

DOT SPs (previously known as DOT Exemptions) allow the SP grantee to perform some function contrary to, or in addition to, the Hazardous Materials Regulations (HMR; 49 CFR parts 171-180). SPs may be used to allow an exemption from provisions of the HMR. SPs can also grant permission to third parties, i.e., persons who are not SP grantees or otherwise party to an SP, to receive, use, retest, or reship an SP package according to the requirements of the HMR and the additional requirements or exceptions described in the SP. SPs are commonly used to authorize: (i) Packaging construction standards that differ from a UN Standard or DOT Specification, (ii) alternative means of testing or closure, (iii) reuse of the packaging in general, (iv) alternative hazard communication requirements, (v) alternative segregation requirements, or (vi) transportation of forbidden materials.

PHMSA's purpose in authorizing the use of SPs is to allow industry to benefit from alternative technologies, materials, and/or processes while maintaining a level of safety at least equal to the safety level required under the HMR. However, PHMSA wishes to emphasize that failure to comply with SP requirements can result in breakdowns in hazard communication, packaging failures, property damage, injury, loss of life and even catastrophic events.

In many cases, maintaining an equivalent level of safety while pursuing alternatives to the normal requirements of the HMR will require additional safety measures. For example, consider the case of a DOT 3HT cylinder that has been manufactured and re-qualified for service under an SP to be used in a fire suppression system onboard an aircraft. The SP may require the cylinder to be tested more frequently and at a different test pressure than the HMR would otherwise require. If a cylinder re-qualifier fails to recognize the cylinder's SP markings and apply the more stringent SP requirements, it might wait too long to retest the cylinder or apply the wrong test pressure. These errors put lives and property at risk when defective cylinders are improperly tested and allowed to function as part of an emergency response system, such as a fire suppression system.

Hazardous materials training is an important tool for ensuring proper hazard communication and compliance with SP and HMR requirements. Part of the training process involves learning to identify SP packages. Pursuant to the HMR, each SP package is required to be marked “DOT-SP” with a number identifying the SP associated with that package, unless specifically excepted by the SP. PHMSA expects trained employees to recognize SP packages and react accordingly by following the requirements of the HMR and the applicable SP. PHMSA recently concluded an investigation where a hazardous material shipper's failure to recognize an SP package and comply with the safety requirements of the applicable SP and HMR cost the lives of three transportation workers.

II. Current Regulatory Requirements

The HMR specifies that persons may offer or transport packages authorized by DOT SPs under the terms specified therein and that if an SP contains requirements applicable to a carrier of an SP package, the offeror shall provide a copy of the SP to the respective carrier (see § 173.22a), unless excepted by the SP. In addition to specific requirements contained in DOT SPs, the HMR includes requirements for hazard communication and handling of SP packages. SP packages must be:

• Plainly and durably marked “DOT-SP” followed by the SP number assigned (see §§ 172.301(c) and 172.302(c)), unless excepted by the SP; and

• Accompanied by shipping papers bearing the notation “DOT-SP” followed by the SP number assigned and clearly associated with the shipping description to which the SP applies (see § 172.203(a)), unless excepted by the SP.

Furthermore, under the training requirements in § 172.704(a)(2), each hazmat employee must be provided function-specific training concerning requirements of the HMR, and exemptions or special permits issued under subchapter A of Title 49 that are specifically applicable to the functions the employee performs.

Non-compliance with SP package requirements has serious safety consequences. PHMSA seeks to encourage compliance by aggressively enforcing SP safety standards and increasing its awareness and outreach efforts.

Accordingly, PHMSA is publishing this safety notice to further promote awareness of the ongoing safety concern and ensure that industry is aware of its responsibilities associated with the offering and transportation of hazardous materials in SP packaging, the current regulatory requirements applicable to such transportation, and that regulatory violations will be prosecuted to the maximum extent permitted under the law.

Persons who violate the HMR may be subject to significant civil penalties and/or criminal fines and imprisonment. Maximum civil penalties may be imposed of up to $55,000 per violation or $110,000 per violation if a death, serious illness, or severe injury occurs to a person or substantial destruction of property. Potential criminal penalties include fines of up to $500,000 and/or ten years in jail.

More detailed information on the requirements in the HMR governing the offering and transportation of SP packages is available on DOT's Hazmat Safety Web site: http://www.phmsa.dot.gov/hazmat. The HMR are also accessible through PHMSA's Web site, and answers to specific questions may be obtained from the Hazardous Materials Information Center at 1-800-467-4922 (in Washington, DC, call 202-366-4488).

III. Recommended Action

PHMSA recommends that industry institute quality control measures to identify and properly handle DOT SP packages and packages containing hazardous materials in general:

(1) Shippers and carriers should stress the importance of recognizing an SP package to their employees. The importance of recognizing an SP package should be given the same level of attention as when they determine whether a packaging specification meets a UN standard or DOT specification. This is especially important to those operations that re-ship packages.

(2) Once a person has identified a DOT SP package, that person should obtain a current copy of the SP and review it for applicable requirements. Copies of SPs may be obtained from PHMSA's Web site at: http://phmsa.dot.gov/hazmat/regs/sp-a/special-permits. The person should also review the HMR requirements applicable to SP packages.

(3) Shippers and carriers should evaluate hazardous materials training programs and communication protocols in their operations with respect to recognizing and handling SP packages to ensure that the subject is discussed and included during knowledge testing. Any person performing a function required by an SP or shipping an SP package is required to receive “function-specific” training of the requirements contained in each special permit.

(4) Third-party hazardous materials or dangerous goods instructors, consultants, and others, should review their training programs to ensure that the subject of SP packages is discussed and included during knowledge testing.

(5) Shippers should implement or review existing pre-shipment procedures to ensure that a particular packaging is prepared as authorized by an SP and/or the HMR and that all communication requirements have been met.

These recommendations are not exclusive; we hope that industry representatives will use the information provided herein, together with any other available information, to consider other reasonable measures they believe appropriate to increase awareness of DOT SPs and their responsibility in the handling and transporting such packages.

Issued in Washington, DC on August 24, 2011.
Magdy El-Sibaie,
Associate Administrator for Hazardous Materials Safety.

[FR Doc. 2011-22110 Filed 8-29-11; 8:45 am]

BILLING CODE 4910-60-P